DEPARTMENT OF ENERGY

Federal Energy Regulatory Commission

Combined Notice of Filings #1

Take notice that the Commission received the following exempt wholesale generator filings:

Docket Numbers: EG25-34-000.

Applicants: Enbridge Solar (Orange Grove), LLC.

Description: Enbridge Solar (Orange Grove), LLC submits Notice of Self-Certification of Exempt Wholesale Generator Status.

Filed Date: 11/5/24.

Accession Number: 20241105-5265.

Comment Date: 5 p.m. ET 11/26/24.

Docket Numbers: EG25-39-000.

Applicants: Bluegrass Solar, LLC.

Description: Bluegrass Solar, LLC submits Notice of Self-Certification of Exempt Wholesale Generator Status.

Filed Date: 11/21/24.

Accession Number: 20241121-5100.

Comment Date: 5 p.m. ET 12/12/24.

Docket Numbers: EG25-40-000.

Applicants: Burksol LLC.

Description: Burksol LLC submits Notice of Self-Certification of Exempt Wholesale Generator Status.

Filed Date: 11/21/24.

Accession Number: 20241121-5148.

Comment Date: 5 p.m. ET 12/12/24.

Docket Numbers: EG25-41-000.

Applicants: Desert Willow Energy Storage, LLC.

Description: Desert Willow Energy Storage, LLC submits Notice of Self-Certification of Exempt Wholesale Generator Status.

Filed Date: 11/21/24.

Accession Number: 20241121-5152.

Comment Date: 5 p.m. ET 12/12/24.

Docket Numbers: EG25-42-000.

Applicants: Anole Energy Storage, LLC.

Description: Anole Energy Storage, LLC submits Notice of Self-Certification of Exempt Wholesale Generator Status.

Filed Date: 11/21/24.

Accession Number: 20241121-5166.

Comment Date: 5 p.m. ET 12/12/24.

Take notice that the Commission received the following electric rate filings:

Docket Numbers: ER25-500-000.

Applicants: Scatter Wash Energy Storage LLC.

Description: Baseline eTariff Filing: Baseline new to be effective 11/21/2024.

Filed Date: 11/20/24.

Accession Number: 20241120-5176.

Comment Date: 5 p.m. ET 12/11/24.

Docket Numbers: ER25-501-000.

Applicants: PJM Interconnection, L.L.C.

Description: 205(d) Rate Filing: Original GIA Service Agreement No. 7407; Project Identifier No. AF2-383 to be effective 10/23/2024.

Filed Date: 11/21/24.

Accession Number: 20241121-5023.

Comment Date: 5 p.m. ET 12/12/24.

Docket Numbers: ER25-502-000.

Applicants: PJM Interconnection, L.L.C.

Description: 205(d) Rate Filing: Rev to OA, Sch. 12 & RAA, Sch. 17 RE 3Q 2024 Member Lists to be effective 9/30/2024.

Filed Date: 11/21/24.

Accession Number: 20241121-5044.

Comment Date: 5 p.m. ET 12/12/24.

Docket Numbers: ER25-503-000.

Applicants: Public Service Company of Colorado.

Description: 205(d) Rate Filing: 2024-11-21-PSC-UPI-T-2024-8-Farren-SISA-853-0.0.0 to be effective 1/20/2025.

Filed Date: 11/21/24.

Accession Number: 20241121-5062.

Comment Date: 5 p.m. ET 12/12/24.

Docket Numbers: ER25-504-000.

Applicants: Midcontinent Independent System Operator, Inc.

Description: 205(d) Rate Filing: 2024-11-21_SA 6522 MISO-Manitowoc Public Utilities Third SSR Agrmt Lakefront 9 to be effective 2/1/2025.

Filed Date: 11/21/24.

Accession Number: 20241121-5071.

Comment Date: 5 p.m. ET 12/12/24.

Docket Numbers: ER25-505-000.

Applicants: Nevada Gold Energy LLC.

Description: Initial rate filing: Nevada Gold Energy Reactive Power Filing to be effective 1/21/2025.

Filed Date: 11/21/24.

Accession Number: 20241121-5136.

Comment Date: 5 p.m. ET 12/12/24.

Docket Numbers: ER25-506-000.

Applicants: Appalachian Power Company.

Description: 205(d) Rate Filing: OATT—Revise Attachment K, AEP Texas Inc. Rate Update to be effective 12/31/9998.

Filed Date: 11/21/24.

Accession Number: 20241121-5139.

Comment Date: 5 p.m. ET 12/12/24.

Docket Numbers: ER25-507-000.

Applicants: Midcontinent Independent System Operator, Inc.

Description: 205(d) Rate Filing: 2024-11-21_Att X Queue Cap Proposal and Exemptions to Queue Cap Proposal to be effective 1/31/2025.

Filed Date: 11/21/24.

Accession Number: 20241121-5143.

Comment Date: 5 p.m. ET 12/12/24.

Docket Numbers: ER25-508-000.

Applicants: American Electric Power Service Corporation, PJM Interconnection, L.L.C.

Description: 205(d) Rate Filing: American Electric Power Service Corporation submits tariff filing per 35.13(a)(2)(iii: AEP submits two Facilities Agreements re: ILDSA, SA No. 1336 to be effective 11/1/2024.

Filed Date: 11/21/24.

Accession Number: 20241121-5146.

Comment Date: 5 p.m. ET 12/12/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 21, 2024.
Carlos D. Clay,
Acting Deputy Secretary.

[FR Doc. 2024-27807 Filed 11-26-24; 8:45 am]

BILLING CODE 6717-01-P